DEPARTMENT OF VETERANS AFFAIRS

Advisory Committee on Former Prisoners of War, Notice of Meeting

The Department of Veterans Affairs (VA) gives notice under the Federal Advisory Committee Act that the Advisory Committee on Former Prisoners of War (Committee) will meet on December 11-13, 2019 at the Jackson Regional Benefits Office located at 1600 E Woodrow Wilson Ave., Jackson, MS 39216. The meeting sessions will begin as follows:

Date: | Time:
December 11, 2019 | 9:00 a.m. to 4:00 p.m. Central Standard Time (CST).
December 12, 2019 | 9:00 a.m. to 5:00 p.m. CST.
December 13, 2019 | 8:00 a.m. to 12:00 p.m. CST.

The meeting sessions are open to the public.

The purpose of the Committee is to advise the Secretary of Veterans Affairs on the administration of benefits under Title 38 U.S.C., for Veterans who are Former Prisoners of War (FPOW), and to make recommendations on the needs of such Veterans for compensation, health care, and rehabilitation.

The agenda will include discussions, briefings, updates from the Veterans Benefits Administration and Veterans Health Administration.

FPOWs or members of the public who wish to speak at the forum are invited to submit a 1-2 page commentary for inclusion in official meeting records. Any member of the public may also submit a 1-2 page commentary for the Committee's review. Because the meeting is being held in a government building, a photo I.D. must be presented at the Guard's Desk as a part of the screening process. Due to an increase in security protocols, you should allow an additional 15-20 minutes before the meeting begins. Any member of the public wishing to attend the meeting or seeking additional information should contact Ms. Leslie Williams, Designated Federal Officer, Advisory Committee on Former Prisoners of War at Leslie.williams1@VA.gov or via phone at (202) 530-9219.

Dated: November 27, 2019.
Jelessa M. Burney,
Federal Advisory Committee Management Officer.

[FR Doc. 2019-26083 Filed 12-2-19; 8:45 am]

BILLING CODE P